DEPARTMENT OF COMMERCE

International Trade Administration

[A-570-814]

Carbon Steel Butt-Weld Pipe Fittings From the People's Republic of China: Final Affirmative Determination of Circumvention of the Antidumping Duty Order

AGENCY: Enforcement and Compliance, International Trade Administration, Department of Commerce.

SUMMARY: The Department of Commerce (Commerce) determines that carbon steel butt-weld pipe fittings (butt-weld pipe fittings) exported from Malaysia, which were completed in Malaysia using finished or unfinished butt-weld pipe fittings sourced from the People's Republic of China (China), are circumventing the antidumping duty (AD) order on butt-weld pipe fittings from China. Commerce has also updated the language in the certification requirements and importer and exporter certifications that are appended to this notice.

DATES: Applicable June 21, 2019.

FOR FURTHER INFORMATION CONTACT: Jerry Huang, AD/CVD Operations, Office V, Enforcement and Compliance, International Trade Administration, U.S. Department of Commerce, 1401 Constitution Avenue NW, Washington, DC 20230; telephone: (202) 482-4047.

SUPPLEMENTARY INFORMATION:

Background

On July 25, 2018, Commerce published the Preliminary Determination of circumvention of the Order.¹ A summary of the events that occurred since Commerce published the Preliminary Determination, as well as a full discussion of the issues raised by parties for this final determination, may be found in the Issues and Decision Memorandum.² The Issues and Decision Memorandum is a public document and is on file electronically via Enforcement and Compliance's Antidumping and Countervailing Duty Centralized Electronic Service System (ACCESS). ACCESS is available to registered users at http://access.trade.gov, and it is available to all parties in the Central Records Unit, Room B8024 of the main Commerce building. In addition, a complete version of the Issues and Decision Memorandum can be accessed directly at http://enforcement.trade.gov/frn/. The signed and electronic versions of the Issues and Decision Memorandum are identical in content.

¹ See Carbon Steel Butt-Weld Pipe Fittings From the People's Republic of China: Preliminary Affirmative Determination of Circumvention of the Antidumping Duty Order, 83 FR 35205 (July 25, 2018) (Preliminary Determination) and accompanying Preliminary Decision Memorandum; see also Antidumping Duty Order and Amendment to the Final Determination of Sales at Less Than Fair Value; Certain Carbon Steel Butt-Weld Pipe Fittings from the People's Republic of China, 57 FR 29702 (July 6, 1992) (Order).

² See Memorandum, “Issues and Decision Memorandum for the Anti-Circumvention Inquiry of the Antidumping Duty Order on Certain Carbon Steel Butt-Weld Pipe Fittings from the People's Republic of China,” dated concurrently with, and hereby adopted by, this notice (Issues and Decision Memorandum).

Scope of the Order

The products covered by the Order are carbon steel butt-weld pipe fittings. For a complete description of the scope of the Order, see the Issues and Decision Memorandum.

Scope of the Anti-Circumvention Inquiry

This anti-circumvention inquiry covers butt-weld pipe fittings exported from Malaysia to the United States, which were completed (i.e., have undergone minor finishing processes, or were simply marked with “Malaysia” as the country of origin) in Malaysia using finished or unfinished butt-weld pipe fittings sourced from China (inquiry merchandise). This final ruling applies to all shipments of inquiry merchandise on or after the date of the initiation of this inquiry.

Methodology

Commerce is conducting this anti-circumvention inquiry in accordance with section 781(b) of the Tariff Act of 1930, as amended (the Act). For a full description of the methodology underlying the Commerce's final determination, see the Issues and Decision Memorandum.

Analysis of Comments Received

All issues raised in the case and rebuttal briefs by parties in this inquiry are addressed in the Issues and Decision Memorandum. A list of the issues raised is attached to this notice as Appendix I. Based on our analysis of the results of Commerce's verification of questionnaire responses and the comments received, we made certain changes to the Preliminary Determination.

Final Affirmative Determination of Circumvention

As detailed in the Issues and Decision Memorandum, we determine that butt-weld pipe fittings exported from Malaysia, which were completed in Malaysia using finished or unfinished butt-weld pipe fittings from China, or were simply marked with “Malaysia” as the country of origin, are circumventing the Order. As such, we determine that it is appropriate to include this merchandise within the Order and to instruct U.S. Customs and Border Protection (CBP) to continue to suspend liquidation and require cash deposits for any unliquidated entries of butt-weld pipe fittings from Malaysia, which were completed in Malaysia using finished or unfinished butt-weld pipe fittings from China, or were simply marked with “Malaysia” as the country of origin, as discussed below.

Continuation of Suspension of Liquidation

In accordance with 19 CFR 351.225(l)(3), Commerce will direct CBP to continue to suspend liquidation and to require a cash deposit of estimated duties on unliquidated entries of inquiry merchandise that were entered, or withdrawn from warehouse, for consumption on or after August 21, 2017, the date of initiation of the anti-circumvention inquiry.

The suspension of liquidation and cash deposit instructions will remain in effect until further notice. Commerce will instruct CBP to require AD cash deposits equal to the China-wide rate of 182.90 percent, unless the importer/exporter can demonstrate that the Chinese-origin finished or unfinished butt-weld pipe fittings completed in Malaysia were supplied by a Chinese manufacturer with a company-specific separate rate. In that instance, the cash deposit rate will be the rate of the Chinese butt-weld pipe fittings manufacturer that has its own rate.³

³ See, e.g., Glycine from the People's Republic of China: Preliminary Partial Affirmative Determination of Circumvention of the Antidumping Duty Order and Initiation of Scope Inquiry, 77 FR 21532, 21535 (April 10, 2012), unchanged in Glycine from the People's Republic of China: Final Partial Affirmative Determination of Circumvention of the Antidumping Duty Order, 77 FR 73426 (December 10, 2012).

Butt-weld pipe fittings completed in Malaysia from finished and unfinished butt-weld pipe fittings that are not of Chinese-origin are not subject to this inquiry and are not included within the scope of the Order as a result of this final affirmative determination. Therefore, the suspension of liquidation and cash deposit requirements do not apply to such merchandise, subject to the following certification requirements. An importer of butt-weld pipe fittings from Malaysia claiming that its butt-weld pipe fittings were completed from finished and/or unfinished non-Chinese butt-weld pipe fittings must meet the certification and documentation requirements described in Appendices II, III, and IV. Commerce will instruct CBP to suspend liquidation and require cash deposits for entries where the importer/exporter cannot demonstrate that the imported merchandise was completed from non-Chinese origin finished or unfinished butt-weld pipe fittings. The AD cash deposits required on such entries will be equal to the China-wide rate of 182.90 percent, unless the importer/exporter can demonstrate that the Chinese-origin finished or unfinished butt-weld pipe fittings completed in Malaysia were supplied by a Chinese manufacturer with a company-specific separate rate. In that instance, the cash deposit rate will be the rate of the Chinese butt-weld pipe fittings manufacturer that has its own rate.

We determine that the following companies are not eligible for the certification process: Able Steel Pipes Sdn. Bhd, Alliance Fittings Industry Sdn Bhd, Anggerik Laksana Sdn. Bhd, Globefit Manufacturing Sdn Bhd, Hiap Teck Venture Bhd., JAKS Steel Industries Sdn Bhd, Luda Malaysia, Ltd., Pipefab Industries Sdn. Bhd, Solidbend Fittings & Flanges Sdn. Bhd., Southern Steel Bhd, and Wing Tiek Ductile Iron Pipe Sdn Bhd. Accordingly, importers of butt-weld pipe fittings from Malaysia that are produced and/or exported by these ineligible companies are similarly ineligible for the certification process with regard to those imports.

In the Preliminary Determination, Pantech Steel Industries Sdn. Bhd. (Pantech) and its importers were precluded from participating in the certification process. However, because Commerce has verified Pantech's ability to trace the country of origin for its shipments of butt-weld pipe fittings, we will allow Pantech and its importers to participate in the certification process for unliquidated entries of butt-weld pipe fittings from Malaysia that were entered, or withdrawn from warehouse, for consumption on or after August 21, 2017 (the initiation date of this anti-circumvention inquiry). For any unliquidated entries of butt-weld pipe fittings produced and/or exported by Pantech that were entered, or withdrawn from warehouse, for consumption on or after August 21, 2017, and through the day before the date of publication of this Federal Register notice, Commerce will instruct CBP to liquidate the entries without regard to AD duties if the importer provides both the importer and exporter certification and documentation requirements as described in Appendices II, III, and IV to CBP. An importer of butt-weld pipe fittings from Malaysia produced and/or exported by Pantech, which claims that its butt-weld pipe fittings were completed from finished and/or unfinished non-Chinese butt-weld pipe fittings, must meet the certification and documentation requirements described in Appendices II, III, and IV for such entries that were entered, or withdrawn from warehouse, for consumption on or after the date of publication of this Federal Register notice.

Notification Regarding Administrative Protective Orders

This notice will serve as the only reminder to parties subject to administrative protective order (APO) of their responsibility concerning the destruction of proprietary information disclosed under APO in accordance with 19 CFR 351.305(a)(3). Timely written notification of return/destruction or APO materials or conversion to judicial protective order is hereby requested. Failure to comply with the regulations and the terms of an APO is a sanctionable violation.

Notification to Interested Parties

These determinations are issued and published in accordance with section 781(b) of the Act and 19 CFR 351.225(f).

Dated: June 14, 2019.
Jeffrey I. Kessler,
Assistant Secretary for Enforcement and Compliance.

Appendix I—List of Topics Discussed in the Issues and Decision Memorandum

I. Summary

II. Background

III. Scope of the Order

IV. Merchandise Subject to the Anti-circumvention Inquiry

V. Period of Inquiry

VI. Changes Since the Preliminary Determination

VII. Statutory Framework

VIII. Use of Facts Available and Facts Available with Adverse Inference

IX. Anti-Circumvention Determination

X. Country-Wide Determination

XI. Certification for Use of Non-Chinese-Origin Butt Weld Pipe Fittings

XII. Discussion of the Issues

Comment 1: Whether Commerce May Issue a Country-Wide Finding

Comment 2: Whether Pantech Has Circumvented the Order

Comment 3: Whether Pantech and Its Importers Should Be Allowed to Participate in the Certification Process

Comment 4: Whether Solidbend Was Lawfully Subject to This Anti-Circumvention Inquiry

Comment 5: Whether Solidbend Has Circumvented the Order

Comment 6: Whether Commerce's Instructions to Suspend Liquidation and Require Cash Deposits Following the Preliminary Determination Were Lawful

XIII. Recommendation

Appendix II—Certification Requirements

Section 1 provides general instructions for the certification process applicable to all eligible importers and exporters of carbon steel butt-weld pipe fittings (butt-weld pipe fittings) from Malaysia. Section 2 provides the certification timing requirements for eligible companies other than Pantech Steel Industries Sdn. Bhd. (Pantech) and the importers of butt-weld pipe fittings produced and/or exported by firms other than Pantech. Section 3 provides the certification timing requirements for Pantech and the importers of butt-weld pipe fittings produced and/or exported by Pantech.

1. General Instructions

For all parties eligible for the certification process, the following requirements apply. If an importer imports butt-weld pipe fittings from Malaysia and claims that the butt-weld pipe fittings were completed in Malaysia using finished or unfinished butt-weld pipe fittings manufactured of non-Chinese origin, the importer is required to complete and maintain the importer certification, attached as Appendix III, and all supporting documentation. The importer is further required to maintain a copy of the exporter certification, discussed below and attached as Appendix IV, and all supporting documentation. The importer certification must be completed, signed, and dated within the timeframes specified in Sections 2 or 3 below (as appropriate). Where the importer uses a broker to facilitate the entry process, it should obtain the entry number from the broker. Agents of the importer, such as brokers, however, are not permitted to make this certification on behalf of the importer.

The exporter is required to complete and maintain the exporter certification, attached as Appendix IV, and is further required to provide the importer a copy of that certification and all supporting documentation. The exporter certification must be completed, signed, dated, and provided to the importer within the timeframes specified in Sections 2 or 3 below (as appropriate). The exporter certification should be completed by the party selling the merchandise manufactured in Malaysia to the United States, which is not necessarily the producer of the product.

The importer will not be required to submit the certifications or supporting documentation to U.S. Customs and Border Protection (CBP) as part of the entry process at this time. However, the importer and the exporter will be required to present the certifications and supporting documentation, to Commerce and/or CBP, as applicable, upon request by the respective agency. Additionally, the claims made in the certifications and any supporting documentation are subject to verification by Commerce and/or CBP. The importer and exporter are required to maintain the certifications and supporting documentation for the later of (1) a period of five years from the date of entry or (2) a period of three years after the conclusion of any litigation in United States courts regarding such entries. If it is determined that the certification and/or documentation requirements in a certification have not been met, Commerce intends to instruct CBP to suspend, under the antidumping duty (AD) order on butt-weld pipe fittings from the People's Republic of China, A-570-814, all unliquidated entries for which these requirements were not met and require the importer to post applicable AD cash deposits equal to the rates as determined by Commerce. Commerce has established the following third-country case number in the Automated Commercial Environment (ACE): A-557-994 for such entries. Entries suspended under A-557-994 will be liquidated pursuant to applicable administrative reviews of the China AD order or through the automatic liquidation process.

For unliquidated entries (and entries for which liquidation has not become final) entered as non-AD/CVD type entries that were shipped and/or entered, or withdrawn from warehouse, for consumption during the period, August 21, 2017 (the date of initiation of this anti-circumvention inquiry) through the day prior to the date of publication of the final determination of this anti-circumvention inquiry in the Federal Register, for which certifications are required to be maintained in accordance with the instructions above, importers should file a Post Summary Correction with CBP, in accordance with CBP's regulations, regarding conversion of such entries from non-antidumping entries (e.g., type 01) to antidumping entries (i.e., type 03, 06, 07, 34, and 38) entries and report those entries using the third-country case number, A-557-994. Similarly, the importer should pay cash deposits on those entries consistent with the regulations governing post summary corrections that require payment of additional duties.

2. Certification Timing Requirements for Companies Other Than Pantech and Its Importers

A. For Entries on or after August 21, 2017 Through July 25, 2018

For entries suspended pursuant to the Preliminary Determination and continue to be suspended pursuant to the final determination of this anti-circumvention inquiry that were shipped and/or entered, or withdrawn from warehouse, for consumption on or after August 21, 2017 (the date of initiation of this anti-circumvention inquiry) through July 25, 2018 (the date of publication of the Preliminary Determination in the Federal Register), for which certifications are required, the importer certification should have been completed, and the exporter certification should have been completed and provided to the importer, no later than September 8, 2018 (45 days after the date of publication of the Preliminary Determination in the Federal Register).

Accordingly, where appropriate, the relevant bullet in the certification should have been edited to reflect that the certification was completed within the time frame specified in the paragraph above. For example, the bullet in the importer certification that reads: “This certification was completed by the time of filing the Entry Summary,” could be edited as follows: “The shipments/products referenced herein entered before the 07/25/2018 publication of the Preliminary Determination Federal Register notice. This certification was completed on mm/dd/yyyy, within 45 days of that Federal Register notice publication.” Similarly, the bullet in the exporter certification that reads, “This certification was completed by the time of shipment,” could be edited as follows: “The shipments/products referenced herein shipped before the 07/25/2018 publication of the Preliminary Determination Federal Register notice. This certification was completed on mm/dd/yyyy, within 45 days of that Federal Registernotice publication.” For such entries/shipments, importers and exporters each have the option to complete a blanket certification covering multiple entries/shipments, individual certifications for each entry/shipment, or a combination thereof.

B. For Entries on or After July 26, 2018 Through August 31, 2018

For entries suspended pursuant to the Preliminary Determination and continue to be suspended pursuant to the final determination of this anti-circumvention inquiry that were shipped and/or entered, or withdrawn from warehouse, for consumption on or after July 26, 2018 through August 31, 2018, for which certifications are required, the importer certification should have been completed within 45 days after the date of Entry Summary and the exporter certification should have been completed and provided to the importer within 45 days after the date of shipment.

Accordingly, where appropriate, the relevant bullet in the certification should have been edited to reflect that the certification was completed within the time frame specified in the paragraph above. For example, the bullet in the importer certification that reads: “This certification was completed by the time of filing the Entry Summary,” could be edited as follows: “The shipments/products referenced herein entered during the period 07/26/2018 through 08/31/2018. This certification was completed on mm/dd/yyyy, within 45 days of the date of entry.” Similarly, the bullet in the exporter certification that reads, “This certification was completed by the time of shipment,” could be edited as follows: “The shipments/products referenced herein shipped during the period 07/26/2018 through 08/31/2018. This certification was completed on mm/dd/yyyy, within 45 days of the date of shipment.” For such entries/shipments, importers and exporters each have the option to complete a blanket certification covering multiple entries/shipments, individual certifications for each entry/shipment, or a combination thereof.

C. For Entries on or After September 1, 2018 Through the Day Prior to the Date of Publication of the Final Determination of This Anti-Circumvention Inquiry in the Federal Register

For entries suspended pursuant to the Preliminary Determination and continue to be suspended pursuant to the final determination of this anti-circumvention inquiry that were shipped and/or entered, or withdrawn from warehouse, for consumption on or after September 1, 2018 through the day prior to the date of publication of the final determination of this anti-circumvention inquiry in the Federal Register for which certifications are required, the importer certification should have been completed by the date of Entry Summary and the exporter certification should have been completed and provided to the importer by the date of shipment.

D. For Entries on or After the Date of Publication of the Final Determination of This Anti-Circumvention Inquiry in the Federal Register

For entries suspended pursuant to the Preliminary Determination and continue to be suspended pursuant to the final determination of this anti-circumvention inquiry that were shipped and/or entered, or withdrawn from warehouse, for consumption on or after the date of publication of the final determination in the Federal Register for which certifications are required, the importer certification should be completed by the date of Entry Summary and the exporter certification should be completed and provided to the importer by the date of shipment. For such entries/shipments, the importers and exporters must use the updated certification forms in Appendices III and IV.

3. Certification Timing Requirements for Pantech and Its Importers

These timing requirements apply only to Pantech and its importers because they were not previously eligible for the certification process.

A. For Entries on or After August 21, 2017 Through the 30th Day After the Date of Publication of the Final Determination of This Anti-Circumvention Inquiry in the Federal Register

For entries of butt-weld pipe fittings from Pantech suspended pursuant to the Preliminary Determination of this anti-circumvention inquiry that were shipped and/or entered, or withdrawn from warehouse, for consumption during the period, August 21, 2017 (the date of initiation of this anti-circumvention inquiry) through the 30th day after the date of publication of the final determination in the Federal Register, for which certifications are required, the importer certification should be completed, and exporter certification should be completed and provided to the importer, within 45 days of the date of publication of the final determination in the Federal Register.

Accordingly, where appropriate, the relevant bullet in the certification should be edited to reflect that the certification was completed within the time frame specified in the paragraph above. For example, the bullet in the importer certification that reads: “This certification was completed by the time of filing the Entry Summary,” could be edited as follows: “The shipments/products referenced herein entered during the period 08/21/2017 through the 30th day after the date of publication of the final determination in the Federal Register. This certification was completed on mm/dd/yyyy, within 45 days of that Federal Register notice publication.” Similarly, the bullet in the exporter certification that reads, “This certification was completed by the time of shipment,” could be edited as follows: “The shipments/products referenced herein shipped during the period 08/21/2017 through the 30th day after the date of publication of the final determination in the Federal Register. This certification was completed on mm/dd/yyyy, within 45 days of that Federal Register notice publication.” For such entries/shipments, importers and exporters each have the option to complete a blanket certification covering multiple entries/shipments, individual certifications for each entry/shipment, or a combination thereof.

B. For Entries on or After the 31st Day After the Date of Publication of the Final Determination of This Anti-Circumvention Inquiry in the Federal Register

For entries of butt-weld pipe fittings from Pantech that were shipped and/or entered, or withdrawn from warehouse, for consumption, on or after the 31st day after the date of publication of the final determination of this anti-circumvention inquiry in the Federal Register, for which certifications are required, the importer certification should be completed by the date of Entry Summary and the exporter certification should be completed and provided to the importer by the date of shipment. For such entries/shipments, the importers and exporters must use the updated certification forms in Appendices III and IV.

Appendix III—Importer Certification

I hereby certify that:

• My name is {COMPANY OFFICIAL'S NAME} and I am an official of {IMPORTING COMPANY};

• I have direct personal knowledge of the facts regarding the importation into the Customs territory of the United States of the carbon steel butt-weld pipe fittings completed in Malaysia that entered under entry number(s) {INSERT ENTRY NUMBER(S)} and are covered by this certification. “Direct personal knowledge” refers to facts the certifying party is expected to have in its own records. For example, the importer should have “direct personal knowledge” of the importation of the product (e.g., the name of the exporter) in its records;

• I have personal knowledge of the facts regarding the production of the imported products covered by this certification. “Personal knowledge” includes facts obtained from another party, (e.g., correspondence received by the importer (or exporter) from the producer regarding the source of the input used to produce the imported products);

• The carbon steel butt-weld pipe fittings completed in Malaysia do not contain finished or unfinished butt-weld pipe fittings manufactured in the People's Republic of China;

• I understand that {IMPORTING COMPANY} is required to maintain a copy of this certification and sufficient documentation supporting this certification (i.e., documents maintained in the normal course of business, or documents obtained by the certifying party, for example, mill certificates, productions records, invoices, etc.) for the later of (1) a period of five years from the date of entry or (2) a period of three years after the conclusion of any litigation in the United States courts regarding such entries;

• I understand that {IMPORTING COMPANY} is required to provide this certification and supporting records, upon request, to U.S. Customs and Border Protection (CBP) and/or the Department of Commerce (Commerce);

• I understand that {IMPORTING COMPANY} is required to maintain a copy of the exporter's certification, (attesting to the production and/or export of the imported merchandise identified above), for the later of (1) a period of five years from the date of entry or (2) a period of three years after the conclusion of any litigation in United States courts regarding such entries;

• I understand that {IMPORTING COMPANY} is required to maintain and, upon request, provide a copy of the exporter's certification and supporting records to CBP and/or Commerce;

• I understand that the claims made herein, and the substantiating documentation, are subject to verification by CBP and/or Commerce;

• I understand that failure to maintain the required certification and/or failure to substantiate the claims made herein will result in:

○ suspension of liquidation of all unliquidated entries (and entries for which liquidation has not become final) for which these requirements were not met; and

○ the requirement that the importer post applicable antidumping duty (AD) cash deposits (as appropriate) equal to the rates determined by Commerce;

• I understand that agents of the importer, such as brokers, are not permitted to make this certification;

• This certification was completed by the time of filing the Entry Summary; and

• I am aware that U.S. law (including, but not limited to, 18 U.S.C. 1001) imposes criminal sanctions on individuals who knowingly and willfully make material false statements to the U.S. government.

Signature

NAME OF COMPANY OFFICIAL

TITLE

Appendix IV—Exporter Certification

I hereby certify that:

• My name is {COMPANY OFFICIAL'S NAME HERE} and I am an official of {NAME OF EXPORTING COMPANY};

• I have direct personal knowledge of the facts regarding the production and exportation of the carbon steel butt-weld pipe fittings identified below. “Direct personal knowledge” refers to facts the certifying party is expected to have in its own books and records. For example, an exporter should have “direct personal knowledge” of the producer's identity and location.

• The carbon steel butt-weld pipe fittings completed in Malaysia do not contain finished or unfinished butt-weld pipe fittings manufactured in the People's Republic of China;

• I understand that {NAME OF EXPORTING COMPANY} is required to maintain a copy of this certification and sufficient documentation supporting this certification (i.e., documents maintained in the normal course of business, or documents obtained by the certifying party, for example, mill certificates, productions records, invoices, etc.) for the later of (1) a period of five years from the date of entry or (2) a period of three years after the conclusion of any litigation in the United States courts regarding such entries;

• I understand that {NAME OF EXPORTING COMPANY} must provide this Exporter Certification to the U.S. importer by the time of shipment. ;

• I understand that {NAME OF EXPORTING COMPANY} is required to provide a copy of this certification and supporting records, upon request, to U.S. Customs and Border Protection (CBP) and/or the Department of Commerce (Commerce);

• I understand that the claims made herein, and the substantiating documentation, are subject to verification by CBP and/or Commerce;

• I understand that failure to maintain the required certification and/or failure to substantiate the claims made herein will result in:

○ Suspension of all unliquidated entries (and entries for which liquidation has not become final) for which these requirements were not met; and

○ the requirement that the importer post applicable antidumping duty (AD) cash deposits (as appropriate) equal to the rates as determined by Commerce;

• This certification was completed at or prior to the time of shipment; and

• I am aware that U.S. law (including, but not limited to, 18 U.S.C. 1001) imposes criminal sanctions on individuals who knowingly and willfully make material false statements to the U.S. government.

Signature

NAME OF COMPANY OFFICIAL

TITLE

DATE

[FR Doc. 2019-13252 Filed 6-20-19; 8:45 am]

BILLING CODE 3510-DS-P